DEPARTMENT OF VETERANS AFFAIRS

[OMB Control No. 2900-0176]

Agency Information Collection Activity: Certification of Training Hours, Wages, and Progress; Withdrawn

AGENCY: Veterans Benefits Administration, Department of Veterans Affairs.

ACTION: Notice; withdrawal.

SUMMARY: On Thursday, February 9, 2023, the Veterans Benefits Administration (VA), published a notice in the Federal Register announcing an opportunity for public comment on the proposed collection Certification of Training Hours, Wages and Progress (VA Form 28-1905c). This notice was published in error; therefore, this document corrects that error by withdrawing this FR notice, document number 2023-02737.

DATES: As of Wednesday, February 15, 2023, the FR notice published at 88 FR 27, page 8513 on Thursday, February 9, 2023, is withdrawn.

FOR FURTHER INFORMATION CONTACT: Maribel Aponte, Office of Enterprise and Integration, Data Governance Analytics (008), 810 Vermont Ave. NW, Washington, DC 20006, (202) 266-4688 or email maribel.aponte@va.gov.

SUPPLEMENTARY INFORMATION: FR Doc. 2023-02737, published on Thursday, February 9, 2023 (88 FR 27), is withdrawn by this notice.

By direction of the Secretary.
Maribel Aponte,
VA PRA Clearance Officer, Office of Enterprise and Integration/Data Governance Analytics, Department of Veterans Affairs.

[FR Doc. 2023-03447 Filed 2-16-23; 8:45 am]

BILLING CODE 8320-01-P